DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Pacific Halibut and Sablefish Fisheries: Individual Fishing Quota (IFQ).

OMB Control Number: 0648-0272.

Form Number(s): None.

Type of Request: Regular (revision and extension of a currently approved information collection).

Number of Respondents: 1,639.

Average Hours Per Response: Application for Eligibility to receive QS/IFQ (TEC) and QS holder form, Application for Transfer of QS/IFQ to or from a CQE, Application for Transfer of QS/IFQ (includes sweep-up); Application for Military Transfer, Application for Emergency Medical Transfer; 2 hours each; Identification of Ownership Interest, Application for IFQ/CDQ Hired Master Permit, Application for Registered Buyer permit and QS/IFQ Designated Beneficiary Form, Application for replacement of certificates, permits, or licenses, 30 minutes each; 18 minutes for Registered Buyer landing report; 6 minutes for IFQ Administrative Waiver; 12 minutes each for Prior Notice of Landing (PNOL); 15 minutes for IFQ Departure Report and Transshipment Authorization; and 6 minutes for Dockside Sales Receipt.

Burden Hours: 3,112.

Needs and Uses: This request is for revision and extension of a currently approved information collection. Forms that are no longer applicable have been removed.

The National Marine Fisheries Service (NMFS) established the Individual Fishing Quotas (IFQs) Program to improve the long-term productivity of the sablefish and Pacific halibut fisheries by further promoting the conservation and management objectives of the Magnuson-Stevens Conservation Act, 16 U.S.C. 1801 et seq., as amended in 2006 (Magnuson-Stevens Act) (with respect to sablefish) and the Northern Pacific Halibut Act of 1982 (with respect to Pacific halibut) while retaining the character and distribution of the fishing fleets as much as possible. The IFQ Program includes several provisions, such as ownership caps and vessel use caps that protect small producers, part-time participants, and entry-level participants that otherwise could be adversely affected by excessive consolidation.

The IFQ Program also includes other restrictions to prevent the halibut and sablefish fisheries from domination by large boats or by any particular vessel class. NMFS designed the requirements to maintain a predominantly owner-operated fishery, which was a key characteristic of the halibut and sablefish fisheries prior to the implementation of the IFQ Program. The IFQ Program provides each fisherman an IFQ that can be used any time during the open season to allow each fisherman to set his/her own pace and fishing effort.

Under the IFQ Program, quota share (QS) represents a harvesting privilege for a person. Annually, NMFS issues IFQ to QS holders to harvest specified poundage. The specific amount of IFQ held by a person is determined by the number of QS units held, the total number of QS units issued in a specific regulatory area, and the total pounds of sablefish or halibut allocated for the IFQ fisheries in a particular year. Fishermen may harvest the IFQ over the entire fishing season, which extends approximately from March through November 15.

Affected Public: Business or other for-profit organizations; individuals or households; not for profit institutions.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 28, 2015.
Glenna Mickelson,
Management Analyst, Office of the Chief Information Officer.

[FR Doc. 2015-01894 Filed 1-30-15; 8:45 am]

BILLING CODE 3510-22-P